DEPARTMENT OF COMMERCE

National Oceanic and Atmospheric Administration

[I.D. 070501B]

Endangered Species; Permits

AGENCY: National Marine Fisheries Service (NMFS), National Oceanic and Atmospheric Administration (NOAA), Commerce.

ACTION: Issuance of permits 1296 and 1304; Issuance of modification #1 to permit 1227; and modification #2 to permit 1245.

SUMMARY: Notice is hereby given of the following actions regarding permits for lethal and non-lethal takes of endangered and threatened species for the purposes of scientific research and/or enhancement under the Endangered Species Act (ESA): NMFS has issued permit 1296 to Dr. R. Michael Laurs, of Southwest Fisheries Science Center (NMFS-SWFSC); NMFS has issued permit 1304 to Mr. William C. Coles, of Department of Planning and Natural Resources, Division of Fish and Wildlife, U.S. Virgin Islands; NMFS has issued modification #1 to permit #1227 to Dr. Peter Dutton, of NMFS-SWFSC; and NMFS has issued modification #2 to Mr. J. David Whitaker, of South Carolina Department of Natural Resources (SCDNR).

ADDRESSES: The permits, applications and related documents are available for review in the indicated office, by appointment:

Endangered Species Division, F/PR3, 1315 East West Highway, Silver Spring, MD 20910 (phone: 301-713-1401, fax: 301-713-0376).

FOR FURTHER INFORMATION CONTACT: Terri Jordan, Silver Spring, MD (phone: 301-713-1401, fax: 301-713-0376, e-mail: Terri.Jordan@noaa.gov)

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea Turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Threatened and endangered Olive ridley turtle (Lepidochelys olivacea)

Permits and Modified Permits Issued

Permit # 1296

Notice was published on March 5, 2001 (66 FR 13305) that Dr. R. Michael Laurs, of the National Marine Fisheries Service - Southwest Fisheries Science Center(NMFS-SWFSC) applied for a scientific research permit (1296). NMFS-SWFSC overseeing and working with long line captains and crew members to perform sea turtle research activities at sea tor better fulfill NMFS ESA responsibilities to protect, conserve, and recover listed species of sea turtles and better meet the goals and objectives of the U.S. Pacific Sea Turtle Recovery Plans and the requirements of present and future Section 7 biological Opinions developed for this fishery. Permit 1296 was issued on July 2, 2001, authorizing non-lethal take of 42 olive ridley, 61 leatherback, 13 green, and 122 loggerhead sea turtles annually. Permit 1296 expires July 31, 2006.

Permit #1304

Notice was published on May 2, 2001 (66 FR 21912) that Mr. William C. Coles, of the U.S. Virgin Islands Department of Planning and Natural Resources, Division of Fish and Wildlife applied for a scientific research permit (1304). The applicant requested a permit to take endangered and threatened sea turtles in the U.S. Virgin Islands for scientific research. The applicant proposes to capture, handle, tag, collection of biological samples and release green, hawksbill, leatherback and olive ridley turtles. Permit 1304 was issued on July 3, 2001, authorizing non-lethal take of 100 green, 50 hawksbill and 1 leatherback turtles annually. Permit 1304 expires July 31, 2006.

Permit #1227

Notice was published on May 2, 2001 (66 FR 21912) that Dr. Peter Dutton, of NMFS-SWFSC applied for a modification to 1227. Modification #1 authorizes Dr. Dutton to increase the number of leatherback turtles captured under permit #1227 from 5 to 100 over the life of the permit. It also extends the expiration date of the permit to December 31, 2005 and the research area from Monterey Bay, California to the nearshore waters of California and Oregon. This study proposes to capture up to 100 leatherback turtles for genetic stock identification and equip up to 20 of them with transmitters to track movements and dive behavior. This study is aimed at addressing priorities outlined in the U.S. Pacific leatherback Recovery Plan; to identify critical forage habitats, genetic stock structure, migratory corridors and potential fishery impacts on this species in the Pacific. Modification #1 to Permit 1227 was issued on July 2, 2001, authorizing non-lethal take of an additional 95 leatherback turtles for a total of 100 over the 5 year life of the permit. Permit 1227 expires December 31, 2005.

Permit #1245

Notice was published on May 10, 2001 (66 FR 23882) that Mr. J. David Whitaker, of South Carolina Department of Natural Resources applied for a modification to permit 1245. Modification #2 the applicant requests authorization to intubate and ventilate any turtles verified to be unconscious after retrieval from the trawl (approximately 5 a year); authorization to collect tissue biopsies from any abnormal growth noted on a turtle captured during this study (approximately 5 a year) and authorization to collect keratin samples and tissue biopsies from 50 Kemp's ridley and 50 loggerhead turtles currently authorized for capture under permit #1245. Life history and population information gained from this study will improve our understanding of these species and will allow NMFS to improve our conservation and recovery actions. The applicant possesses a 3-year permit to establish a scientifically-valid indices of abundance for the northern sub-population of the threatened loggerhead turtle and the endangered Kemp's ridley, green and leatherback sea turtles which occur in the Atlantic Ocean off the southeastern United States. This study is intended to capture juveniles and adults, thereby providing a more comprehensive assessment of total population abundance and an assessment of the health of individual animals. Modification #2 to Permit 1245 was issued on July 3, 2001, authorizing the lethal take of 4 loggerhead turtles annually and the non-lethal take of 250 loggerhead, 50 Kemp's ridley, 10 green, 5 hawksbill and 1 leatherback turtle annually. Permit 1245 expires October 31, 2002.

Dated: July 10, 2001.
Phil Williams,
Acting Chief, Endangered Species Division, Office of Protected Resources, National Marine Fisheries Service.

[FR Doc. 01-17732 Filed 7-13-01; 8:45 am]

BILLING CODE 3510-22-S